DEPARTMENT OF TRANSPORTATION

Federal Transit Administration

Environmental Impact Statement for the North Springfield Bus Rapid Transit Corridor Extension in the Eugene-Springfield Oregon Metropolitan Area

AGENCY: Federal Transit Administration (FTA), U.S. Department of Transportation (DOT).

ACTION: Notice of intent to prepare an environmental impact statement.

SUMMARY: The Federal Transit Administration and Lane Transit District (LTD) intend to prepare an Environmental Impact Statement (EIS) in accordance with the National Environmental Policy Act (NEPA) for transit improvements in the North Springfield Bus Rapid Transit Corridor of the Eugene-Springfield metropolitan region. The purpose of this Notice of Intent is to notify interested parties of the intent to prepare an EIS and invite participation in the study. The Eugene-Springfield metropolitan region has adopted a long-range transportation plan, TransPlan, which identifies Bus Rapid Transit (BRT) as the preferred transit strategy for the twenty-year plan. BRT was adopted as a comprehensive system plan, which includes full build-out of five corridors. The general alignments of the five corridors have been identified in the approved plan. Phase 1, the initial 4 mile east-west corridor alignment is the first of the corridors to be implemented, and is currently in final design. The remaining four corridors will be implemented in priority order as determined by local elected officials through a corridor selection process. The North Springfield BRT Corridor has been identified as the next priority corridor to pursue in Springfield.

The BRT project proposes to implement a major high capacity transit improvement in the North Springfield Corridor that maintains livability in the metropolitan region, supports land use goals, optimizes the transportation system, increases overall corridor capacity, is environmentally sensitive, reflects community values, and is fiscally responsive.

Meeting Dates: Agency Coordination Meeting: An agency coordination meeting will be held at 10 a.m. on Tuesday, September 17, 2002 at the Lane Transit District, 3500 East 17th Avenue, Eugene, Oregon.

Public Information Meeting: A public information meeting will be held from 4-7 p.m. on Thursday, September 19th, 2002 at the Lane Transit District, 1700 East 17th Avenue, Eugene, Oregon. The Lane Transit District is accessible to persons with disabilities. Any individual with a disability who requires special assistance, such as a sign language interpreter, should contact Lane Transit District at (541) 682-6100 at least 48-hours in advance of the meeting in order for LTD to make necessary arrangements.

FOR FURTHER INFORMATION CONTACT: Agency Coordination should contact Lisa Gardner, LTD EIS Manager at (541) 682-6135 or (email) lisa.gardner@ltd.lane.or.us. Public information contact Sue Aufort, LTD Public Involvement Coordinator at (541) 682-6144 or (email) sue.aufort@ltd.lane.or.us. Written comments should be sent to Lisa Gardner, North Springfield Corridor Project, Lane Transit District, 3500 East 17th Avenue, Eugene, OR 97403. Additional information on the North Springfield Corridor Project can also be found on the LTD Web site at: http://www.ltd.org. Additional information can be obtained from Rebecca Reyes-Alicea, Community Planner, Federal Transit Administration, at (206) 220-4464.

SUPPLEMENTAL INFORMATION:

I. Notice of Intent

This Notice of Intent to prepare an EIS is being published at this time to inform interested parties. The North Springfield Corridor Project is examining BRT alternatives in the north Springfield corridor. FTA regulations and guidance will be used for the analysis and preparation of the North Springfield Corridor EIS.

II. Study Area

The North Springfield Corridor encompasses a general alignment heading north from South “A” Street in Springfield to the Gateway area in Springfield. The exact alignment will be determined as part of the EIS process.

III. Alternatives

All reasonable alternatives will be evaluated in the EIS including a No-Build Alternative, which will provide the basis for comparison of the build alternatives. The No-Build Alternative includes the existing transportation system plus improvements to the fixed-route transit system included in the Regional Transportation Plan Financially Constrained Transportation Network, excluding the implementation of BRT.

IV. Probable Effects

FTA and LTD will evaluate all significant transportation, environmental, social and economic impacts of the alternatives. Primary issues include support of state, regional and local land use and transportation plans and policies, neighborhood impacts, and environmental sensitivity. The impacts will be evaluated for both the construction period and for the long-term period of operation. Measures to mitigate any significant impact will be developed.

Issued On: August 28, 2002.
R.F. Krochalis,
FTA Regional Administrator.

[FR Doc. 02-22371 Filed 8-30-02; 8:45 am]

BILLING CODE 4910-57-M